DEPARTMENT OF AGRICULTURE

Submission for OMB Review; Comment Request

October 29, 2020.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by December 3, 2020 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Animal and Plant Health Inspection Service

Title: Bovine Spongiform Encephalopathy (BSE); Importation of Animals and Animal Products.

OMB Control Number: 0579-0393.

Summary of Collection: The Animal Health Protection Act (AHPA) of 2002 is the primary Federal law governing the protection of animal health. The law gives the Secretary of Agriculture broad authority to detect, control, or eradicate pests or diseases of livestock or poultry. The Secretary may also prohibit or restrict import or export of any animal or related material if necessary to prevent the spread of any livestock or poultry pest or disease. The AHPA is contained in Title X, Subtitle E, Sections 10401-18 of Public Law 107-171, May 13, 2002, the Farm Security and Rural Investment Act of 2002. The Animal and Plant Health Inspection Service (APHIS) regulates the importation of animals and animal products into the United States to guard against the introduction of animal diseases. The regulations in 9 CFR parts 92 through 98, govern the importation of certain animals, birds, poultry, meat, other animal products and byproducts, hay, and straw. It also contains measures for preventing the introduction of various diseases into the United States.

Need and Use of the Information: To ensure BSE is not introduced into the United States, the regulations place specific conditions on the importation of animals and animal products. These requirements necessitate the use of several information collection activities, including, but not limited to, certification, official identification, request for and retention of classification as negligible or controlled risk, declaration of importation, import and export certificates, applications, import and movement permits, agreements, certification statements, seals, notifications, and recordkeeping. Failure to collect this information would make it impossible for APHIS to effectively prevent BSE-contaminated animals and animal products from entering the United States, and to track movement of any imported BSE-contaminated animals or products within the United States post-arrival.

Description of Respondents: Business or other for-profit; Federal Government; Individuals.

Number of Respondents: 2,225.

Frequency of Responses: Reporting, Recordkeeping: On occasion.

Total Burden Hours: 292,884.

Ruth Brown,
Departmental Information Collection Clearance Officer.

[FR Doc. 2020-24317 Filed 11-2-20; 8:45 am]

BILLING CODE 3410-34-P